DEPARTMENT OF HEALTH AND HUMAN SERVICES

Centers for Disease Control and Prevention

[Program Announcement 01059]

Notice of Availability of Funds; Improving Patient Safety and Health Outcomes

A. Purpose

The Centers for Disease Control and Prevention (CDC) announces the availability of fiscal year (FY) 2001 funds for a cooperative agreement program with the Iowa Department of Public Health. This program addresses the “Healthy People 2010” focus area of Immunization and Infectious Diseases. For additional information on “Healthy People 2010” visit the internet site: http://www.health.gov/healthypeople.

The purpose of the program is to address the occurrence of medical errors by implementing a system-wide strategy in Iowa to improve patient safety and health outcomes.

B. Eligible Applicants

Assistance will be provided only to the Iowa Department of Public Health. No other applications are solicited.

Eligibility is limited to the Iowa Department of Public Health because Fiscal Year 2001 Federal appropriations specifically directs CDC to award this applicant funds to implement a system wide strategy to improve patient safety and health outcomes.

The House of Representatives Conference Report accompanying the Departments of Labor, Health and Human Services, and Education and Related Agencies Appropriation Bill, 2000 (Pub. L. 106-544), recognized the Iowa Department of Public Health's unique qualifications for carrying out the activities specified in this cooperative agreement (H.R. Rep. 106-1033).

Note: Title 2 of the United States Code, chapter 26, section 1611 states that an organization described in section 501(c)(4) of the Internal Revenue Code of 1986 that engages in lobbying activities is not eligible to receive Federal funds constituting an award, grant, cooperative agreement, contract, loan or any other form.

C. Availability of Funds

Approximately $422,000 is available in FY 2001 to fund the award. It is expected that the award will begin on or about August 1, 2001, and will be made for a 12-month budget period within a project period of one year. The funding estimate may change.

D. Where to Obtain Additional Information

Program technical assistance may be obtained from: Ben Kupronis, National Center for Infectious Diseases, Centers for Disease Control and Prevention (CDC), 1600 Clifton Road, N.E., M/S A-07, Atlanta, GA 30333, Telephone: (404) 639-4341, Facsimile: (404) 639-6483, Email address: BKupronis@cdc.gov

Business management technical assistance may be obtained from: Merlin Williams, Grants Management Specialist, Grants Management Branch, Procurement and Grants Office, Centers for Disease Control and Prevention (CDC), 2920 Brandywine Road, Room 3000, M/S K75, Atlanta, GA 30341-4146, Telephone: (770) 488-2765, Email address: mqw6@cdc.gov.

Dated: April 17, 2001.
John L. Williams,
Director, Procurement and Grants Office, Centers for Disease Control and Prevention.

[FR Doc. 01-9927 Filed 4-20-01; 8:45 am]

BILLING CODE 4163-18-P